DEPARTMENT OF COMMERCE

National Oceanic and Atmospheric Administration

50 CFR Part 229

[Docket No. 131017871-4175-02]

RIN 0648-BD72

List of Fisheries for 2014

AGENCY: National Marine Fisheries Service (NMFS), National Oceanic and Atmospheric Administration (NOAA), Commerce.

ACTION: Final rule.

SUMMARY: The National Marine Fisheries Service (NMFS) publishes its final List of Fisheries (LOF) for 2014, as required by the Marine Mammal Protection Act (MMPA). The final LOF for 2014 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

DATES: This final rule is effective April 14, 2014.

ADDRESSES: Comments regarding the burden-hour estimates, or any other aspect of the collection of information requirements contained in this rule, should be submitted in writing to Chief, Marine Mammal and Sea Turtle Conservation Division, Office of Protected Resources, NMFS, 1315 East-West Highway, Silver Spring, MD 20910, or to the Office of Information and Regulatory Affairs at OIRA_submissions@omb.eop.gov.

FOR FURTHER INFORMATION CONTACT: Lisa White, Office of Protected Resources, 301-427-8494; Allison Rosner, Greater Atlantic Region, 978-281-9328; Jessica Powell, Southeast Region, 727-824-5312; Elizabeth Petras, West Coast Region (CA), 562-980-3238; Brent Norberg, West Coast Region (WA/OR), 206-526-6550; Kim Rivera, Alaska Region, 907-586-7424; Nancy Young, Pacific Islands Region, 808-725-5156. Individuals who use a telecommunications device for the hearing impaired may call the Federal Information Relay Service at 1-800-877-8339 between 8 a.m. and 4 p.m. Eastern time, Monday through Friday, excluding Federal holidays.

SUPPLEMENTARY INFORMATION:

What is the list of fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: If the total annual mortality and serious injury of a marine mammal stock, across all fisheries, is less than or equal to 10 percent of the PBR level of the stock, all fisheries interacting with the stock will be placed in Category III (unless those fisheries interact with other stock(s) in which total annual mortality and serious injury is greater than 10 percent of PBR). Otherwise, these fisheries are subject to the next tier (Tier 2) of analysis to determine their classification.

Tier 2, Category I: Annual mortality and serious injury of a stock in a given fishery is greater than or equal to 50 percent of the PBR level (i.e., frequent incidental mortality and serious injury of marine mammals).

Tier 2, Category II: Annual mortality and serious injury of a stock in a given fishery is greater than 1 percent and less than 50 percent of the PBR level (i.e., occasional incidental mortality and serious injury of marine mammals).

Tier 2, Category III: Annual mortality and serious injury of a stock in a given fishery is less than or equal to 1 percent of the PBR level (i.e., a remote likelihood or no known incidental mortality and serious injury of marine mammals).

While Tier 1 considers the cumulative fishery mortality and serious injury for a particular stock, Tier 2 considers fishery-specific mortality and serious injury for a particular stock. Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II).

Other Criteria That may be Considered

There are several fisheries on the LOF classified as Category II that have no recent documented mortalities or injuries of marine mammals, or fisheries that did not result in a mortality and serious injury rate greater than 1 percent of a stock's PBR level based on known interactions. NMFS has classified these fisheries by analogy to other Category I or II fisheries that use similar fishing techniques or gear that are known to cause mortality or serious injury of marine mammals, or according to factors discussed in the final LOF for 1996 (60 FR 67063, December 28, 1995) and listed in the regulatory definition of a Category II fishery: “In the absence of reliable information indicating the frequency of incidental mortality and serious injury of marine mammals by a commercial fishery, NMFS will determine whether the incidental mortality or serious injury is `frequent,' `occasional,' or `remote' by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species or stocks incidentally killed or injured in each commercial fishery. The list of species or stocks incidentally killed or injured includes “serious” and “non-serious” documented injuries as described later in the List of Species or Stocks Incidentally Killed or Injured in the Pacific Ocean and the Atlantic Ocean, Gulf of Mexico, and Caribbean sections. To determine which species or stocks are included as incidentally killed or injured in a fishery, NMFS annually reviews the information presented in the current SARs. The SARs are based upon the best available scientific information and provide the most current and inclusive information on each stock's PBR level and level of interaction with commercial fishing operations. The best available scientific information used in the SARs reviewed for the 2014 LOF generally summarizes data from 2007-2011. NMFS also reviews other sources of new information, including observer data, stranding data, and fisher self-reports from that time period.

In the absence of reliable information on the level of mortality or injury of a marine mammal stock, or insufficient observer data, NMFS will determine whether a species or stock should be added to, or deleted from, the list by considering other factors such as: Changes in gear used, increases or decreases in fishing effort, increases or decreases in the level of observer coverage, and/or changes in fishery management that are expected to lead to decreases in interactions with a given marine mammal stock (such as a TRP or a fishery management plan (FMP)). In these instances, NMFS will provide case-specific justification in the LOF for changes to the list of species or stocks incidentally killed or injured and may rely on data outside the 5-year (2007-2011) SAR data period.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each SAR includes an appendix with detailed descriptions of each Category I and II fishery on the LOF, including the observer coverage in those fisheries. The SARs generally do not provide detailed information on observer coverage in Category III fisheries because, under the MMPA, Category III fisheries are not required to accommodate observers aboard vessels due to the remote likelihood of mortality and serious injury of marine mammals. Fishery information presented in the SARs' appendices and other resources referenced during the tier analysis may include: level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I and II fisheries can also be found in the Category I and II fishery fact sheets on the NMFS Office of Protected Resources Web site: http://www.nmfs.noaa.gov/pr/interactions/lof/. Additional information on observer programs in commercial fisheries can be found on the NMFS National Observer Program's Web site: http://www.st.nmfs.gov/st4/nop/.

How do I find out if a specific fishery is in category I, II, or III?

This rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008).

Where can I find specific information on fisheries listed on the LOF?

Starting with the 2010 LOF, NMFS developed summary documents, or fishery fact sheets, for each Category I and II fishery on the LOF. These fishery fact sheets provide the full history of each Category I and II fishery, including: when the fishery was added to the LOF, the basis for the fishery's initial classification, classification changes to the fishery, changes to the list of species or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/lof/, linked to the “List of Fisheries by Year” table. NMFS plans to develop similar fishery fact sheets for each Category III fishery on the LOF. However, due to the large number of Category III fisheries on the LOF and the lack of accessible and detailed information on many of these fisheries, the development of these fishery fact sheets will take significant time to complete. NMFS anticipates posting Category III fishery fact sheets along with the final 2015 LOF, although this timeline may be revised as this effort progresses.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my authorization certificate and mortality/injury reporting forms?

NMFS has integrated the MMPA registration process, implemented through the Marine Mammal Authorization Program (MMAP), with existing state and Federal fishery license, registration, or permit systems for Category I and II fisheries on the LOF. Participants in these fisheries are automatically registered under the MMAP and are not required to submit registration or renewal materials directly under the MMAP. In the Pacific Islands, West Coast, and Alaska regions, NMFS will issue vessel or gear owners an authorization certificate and/or mortality/injury reporting forms via U.S. mail or with their state or Federal license at the time of renewal. In the Northeast region, NMFS will issue vessel or gear owners an authorization certificate via U.S. mail automatically at the beginning of each calendar year; but vessel or gear owners must request or print mortality/injury reporting forms by contacting the NMFS Northeast Regional Office at 978-281-9328 or by visiting the Northeast Regional Office Web site (http://www.nero.noaa.gov/mmap). In the Southeast region, NMFS will issue vessel or gear owners notification of registry and vessel or gear owners may receive their authorization certificate and/or mortality/injury reporting form by contacting the Southeast Regional Office at 727-209-5952 or by visiting the Southeast Regional Office Web site (http://sero.nmfs.noaa.gov/pr/mm/mmap.htm) and following the instructions for printing the necessary documents. Mortality/injury forms are also available online at http://www.nmfs.noaa.gov/pr/pdfs/interactions/mmap_reporting_form.pdf.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal permit systems distinguish between fisheries as classified by the LOF. Therefore, some vessel or gear owners in Category III fisheries may receive authorization certificates even though they are not required for Category III fisheries. Individuals fishing in Category I and II fisheries for which no state or Federal permit is required must register with NMFS by contacting their appropriate Regional Office (see ADDRESSES).

How do I renew my registration under the MMAP?

In Alaska and Northeast regional fisheries, registrations of vessel or gear owners are automatically renewed and participants should receive an authorization certificate by January 1 of each new year. In Pacific Islands regional fisheries, vessel or gear owners receive an authorization certificate by January 1 for state fisheries and with their permit renewal for federal fisheries. In West Coast regional fisheries, vessel or gear owners receive authorization with each renewed state fishing license, the timing of which varies based on target species. Vessel or gear owners who participate in these regions and have not received authorization certificates by January 1 or with renewed fishing licenses must contact the appropriate NMFS Regional Office (see ADDRESSES).

In Southeast regional fisheries, vessel or gear owners' registrations are automatically renewed and participants will receive a letter in the mail by January 1 instructing them to contact the Southeast Regional Office to have an authorization certificate mailed to them or to visit the Southeast Regional Office Web site (http://sero.nmfs.noaa.gov/pr/mm/mmap.htm) to print their own certificate.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip. “Injury” is defined in 50 CFR 229.2 as a wound or other physical harm. In addition, any animal that ingests fishing gear or any animal that is released with fishing gear entangling, trailing, or perforating any part of the body is considered injured, regardless of the presence of any wound or other evidence of injury, and must be reported. Mortality/injury reporting forms and instructions for submitting forms to NMFS can be downloaded from: http://www.nmfs.noaa.gov/pr/pdfs/interactions/mmap_reporting_form.pdf or by contacting the appropriate Regional office (see ADDRESSES). Forms may be faxed directly to the NMFS Office of Protected Resources at 301-713-4060 or 301-713-0376. Reporting requirements and procedures can be found in 50 CFR 229.6.

Am I required to take an observer aboard my vessel?

Individuals participating in a Category I or II fishery are required to accommodate an observer aboard their vessel(s) upon request from NMFS. MMPA section 118 states that an observer may not be required on a vessel if the facilities for quartering an observer or performing observer functions are inadequate or unsafe; thereby exempting vessels too small to accommodate an observer from this requirement. However, observer requirements will not be exempted, regardless of vessel size, for U.S. Atlantic Ocean, Caribbean, Gulf of Mexico large pelagics longline vessels operating in special areas designated by the Pelagic Longline Take Reduction Plan implementing regulations (50 CFR 229.36(d)). Observer requirements can be found in 50 CFR 229.7.

Am I required to comply with any marine mammal take reduction plan regulations?

Table 4 in this rule provides a list of fisheries affected by TRPs and TRTs. TRP regulations can be found at 50 CFR 229.30 through 229.37. A description of each TRT and copies of each TRP can be found at: http://www.nmfs.noaa.gov/pr/interactions/trt/. It is the responsibility of fishery participants to comply with applicable take reduction regulations.

Where can I find more information about the LOF and the MMAP?

Information regarding the LOF and the Marine Mammal Authorization Program, including registration procedures and forms, current and past LOFs, information on each Category I and II fishery, observer requirements, and marine mammal mortality/injury reporting forms and submittal procedures, may be obtained at: http://www.nmfs.noaa.gov/pr/interactions/lof/, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Long Beach Office, 501 W. Ocean Blvd., Suite 4200, Long Beach, CA 90802-4213, Attn: Elizabeth Petras;

NMFS, West Coast Region, Seattle Office, 7600 Sand Point Way NE., Seattle, WA 98115, Attn: Brent Norberg, Protected Resources Division;

NMFS, Alaska Region, Protected Resources, P.O. Box 22668, 709 West 9th Street, Juneau, AK 99802, Attn: Kim Rivera; or

NOAA/IRC, 1845 Wasp Blvd., Building 176, Honolulu, HI 96818, Attn: NMFS/PIRO/PRD/Nancy Young.

Sources of Information Reviewed for the Final 2014 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports through the Marine Mammal Authorization Program, reports to the SRGs, conference papers, FMPs, and ESA documents.

The LOF for 2014 was based on, among other things, information provided in the NEPA and ESA documents analyzing authorized high seas fisheries; stranding data; fishermen self-reports through the MMAP; and SARs, primarily the draft 2013 SARs, which are generally based on data from 2007-2011. The final SARs referenced in this LOF include: 2007 (73 FR 21111, April 18, 2008), 2008 (74 FR 19530, April 29, 2009), 2009 (75 FR 12498, March 16, 2010), 2010 (76 FR 34054, June 10, 2011), 2011 (77 FR 29969, May 21, 2012); and 2012 (78 FR 19446, April, 1 2013) and the draft SAR for 2013 (78 FR 66681, November 6, 2013). The SARs are available at: http://www.nmfs.noaa.gov/pr/sars/.

Comments and Responses

NMFS received three comment letters on the proposed LOF for 2014 (78 FR 73477, December 6, 2013). Comments were received from the U.S. Department of the Interior (DOI), Hawaii Longline Association (HLA), and Washington Department of Fish and Wildlife (WDFW). Comments on issues outside of the scope of the LOF were noted, but generally without response.

Comments on Commercial Fisheries in the Pacific Ocean

Comment 1: DOI provided fishery description information and marine mammal incidental interaction data for the CA Dungeness crab pot fishery. The Redwood National and State Parks wildlife observation/beach carcass database has 12 reports of dead whales since 1994. Whale species in the database include: gray, humpback, and fin whales. No known causes of death were attributed to the strandings.

Response: NMFS acknowledges this comment.

Comment 2: The WDFW recommends NMFS update the estimated number of vessels/persons for the WA salmon purse seine fishery to 75 and for the WA salmon reef net fishery to 11, based on the number of current WA State licenses issued for the respective fisheries.

Response: NMFS acknowledges the comment and revises the estimated number of vessels/persons from 440 to 75 for the WA salmon purse seine fishery and from 53 to 11 for the WA salmon reef net fishery.

Comment 3: The HLA supports the proposed change that indicates the Main Hawaiian Islands (MHI) insular false killer whale is not a basis for the Hawaii-based deep-set longline fishery's Category I classification.

Response: NMFS acknowledges this comment and is finalizing the proposed change to remove the superscript following the MHI insular false killer whale, to indicate that the stock does not drive the fishery's Category I classification.

Comment 4: HLA contends that the Hawaii-based deep-set longline fishery does not interact with MHI insular false killer whales, and that the regulations implementing the False Killer Whale Take Reduction Plan have eliminated the likelihood of any theoretical future interactions between the fishery and the MHI insular false killer whale stock. HLA opposes including the stock on the list of marine mammals injured or killed in the deep-set fishery.

Response: NMFS determines which species or stocks are included as incidentally killed or injured in a fishery by annually reviewing the information presented in the current SARs, among other relevant sources. The SARs are based on the best available scientific information and provide the most current and inclusive information on each stock, including range, abundance, PBR, and level of interaction with commercial fishing operations. The LOF does not duplicate the analyses or evaluation of the data and calculations contained within the SARs.

The 2014 LOF is based on the draft 2013 SARs, which include data from 2007-2011. The draft 2013 SAR for false killer whales indicates that an average of 0.1 mortalities or serious injuries of MHI insular false killer whales occurred each year incidental to the Hawaii-based deep-set longline fishery from 2007-2011 (Carretta et al., 2013). Because the estimate of mortality and serious injury for the stock in this fishery is greater than zero for the period of time covered by the 2014 LOF, the stock is being retained on the list of marine mammal stocks incidentally killed or injured in the fishery. For a more complete analysis of the methodology for determining mortality and serious injury of MHI insular false killer whales, the commenter is referred to the draft 2013 SAR.

As noted above, the most recent data used to inform the 2014 LOF are from 2011. The False Killer Whale Take Reduction Plan (77 FR 71260) was published on November 29, 2012, and its implementing regulations went into effect on December 31, 2012 and February 27, 2013. False killer whale mortality and serious injury estimates in the Hawaii-based deep-set longline fishery for 2012 and 2013 have not yet been finally evaluated or published in a SAR and, therefore, could not be considered for the 2014 LOF. Any changes in the false killer whale mortality and serious injury estimate that may result from the Take Reduction Plan will be evaluated in a future SAR and will be considered in a future LOF.

Comment 5: HLA supports the proposed removal of all “unknown” stocks from the list of marine mammals incidentally injured or killed in the Hawaii deep-set and shallow-set longline fisheries on Table 3.

Response: NMFS acknowledges this comment and is finalizing the removal of all “unknown” stocks of species injured or killed in the Hawaii deep-set and shallow-set longline fisheries on Table 3.

Comment 6: The HLA opposes the continued inclusion of short-finned pilot whales on the list of species injured or killed in the Hawaii shallow-set longline fishery because it is not supported by the available data. HLA states that, in the absence of data confirming that the fishery is interacting with short-finned pilot whales, NMFS may not add the species to the list of species or stocks that are incidentally killed or injured by the fishery.

Response: The draft 2013 SAR for the Hawaii stock of short-finned pilot whales states that two unidentified cetaceans, known to be either false killer whales or short-finned pilot whales (i.e., “blackfish”), were observed seriously injured in the shallow-set longline fishery on the high seas from 2007-2011 (Carretta et al., 2013). When the species of a blackfish cannot be positively identified, NMFS prorates the interaction to each stock based on distance from shore (McCracken, 2010). Until all animals that are taken can be identified to either species (e.g., using photos, tissue samples), this prorating approach constitutes the best available information and ensures that potential impacts to all species and stocks are assessed. Based on this approach, the estimated average annual mortality and serious injury of short-finned pilot whales in the fishery on the high seas is 0.1 (Carretta et al., 2013). Therefore, NMFS is retaining short-finned pilot whales on the list of species or stocks that are incidentally killed or injured by the fishery.

Comment 7: HLA notes that for fisheries that operate both in the U.S. EEZ and on the high seas, marine mammal species for which an interaction has occurred in either the EEZ or the high seas are included on the lists of species injured or killed in both the EEZ and the high seas (i.e., on both Tables 1 or 2 and Table 3). This results in a mistaken implication that a given fishery may interact with a certain species in one geographic area (e.g., within the EEZ) when that fishery has only been observed to interact with the species in another geographic area (e.g., on the high seas). HLA requests that NMFS correct the LOF to attribute species interactions in transboundary fisheries to only those geographic regions where interactions are actually observed. This change would not result in underreporting of species injured or killed, but would avoid the arbitrary result of takes being attributed to fisheries in areas in which no take has ever been observed.

Response: As described in the preamble, NMFS has included high seas fisheries in Table 3 of the LOF since 2009. Several fisheries operate in both U.S. waters and on the high seas, creating some overlap between the fisheries listed in Tables 1 and 2 and those in Table 3. In these cases, the high seas component of the fishery is not considered a separate fishery, but an extension of a fishery operating within U.S. waters. For these fisheries, the lists of species or stocks injured or killed in Table 3 are identical to their Table 1 or 2 counterparts, except for those species or stocks with distributions known to occur on only one side of the EEZ boundary. Because the fisheries and the marine mammal lists are the same, takes of these animals are not being attributed to one geographic area or the other, even when that information may be available. The take is attributed to the specific fishery with the marine mammal interaction. This parallel list structure is explained in the footnotes for each table.

Comments on Commercial Fisheries in the Atlantic Ocean, Gulf of Mexico, and Caribbean

Comment 8: DOI recommends that NMFS remove the Florida stock of the West Indian manatee from the list of species/stocks incidentally killed or injured in the Category II, Southeastern U.S. Atlantic, Gulf of Mexico shrimp trawl fishery. FWS notes that there have been no Florida manatee mortalities or serious injuries in this fishery since 1988.

Response: NMFS acknowledges this comment and corrects a typographical error which inadvertently left the Florida stock of the West Indian manatee on the list of species/stocks incidentally killed or injured in the Southeastern U.S. Atlantic, Gulf of Mexico shrimp trawl fishery. NMFS removed Florida stock of the West Indian manatee in the final rule for the 2013 LOF (78 FR 53345).

Comment 9: DOI recommends that NMFS remove the Florida stock of the West Indian manatee from the list of species/stocks incidentally killed or injured in the Category II Atlantic blue crab trap/pot fishery. FWS notes between 1982 and 2012 there have been 12 serious injuries and no deaths of Florida manatees in the Atlantic blue crab trap/pot fishery. For the most recent five-year period of record (2008-2012) four manatees were seriously injured (0.8 manatees per year).

Response: NMFS finds the inclusion of the Florida stock of West Indian manatee on the list of species/stocks incidentally killed or injured in the Atlantic blue crab trap/pot fishery to be appropriate, with the superscript reference, because three serious injuries have been documented in the most recent five-year period. In the draft 2013 SARs, the PBR for the West Indian manatee was 14.98, and 3 serious injuries (0.6 manatee per year) were reported from 2007-2011 in Atlantic blue crab pot gear, 4% (0.6/14.98) of the stock's PBR. The DOI comment letter notes that 4 serious injuries (0.8 manatee per year) were reported from 2008-2012, which brings annual M/SI to 5% of PBR (0.8/14.98).

Comment 10: DOI recommends NMFS consider adding the Inland Coastal Georgia, Northeastern Coastal Florida bait shrimp trawl fishery as a Category III fishery on the LOF. During the period from 1989 to 2005, four manatees were killed in the Inland Coastal Georgia, Northeastern Coastal Florida bait shrimp trawl fishery. There have been no Florida manatee mortalities or serious injuries in this fishery since 2005.

Response: The Inland Coastal Georgia, Northeastern Coastal Florida bait shrimp fishery is categorized as part of the Southeastern U.S. Atlantic, Gulf of Mexico shrimp trawl fishery on the List of Fisheries. NMFS appreciates and notes the specific mortality and serious injury data. Since no mortalities or serious injuries have been documented in the most recent five-year period (2007-2011), the Florida stock of West Indian manatees will not be added to the list of species or stocks incidentally killed or injured by the Southeastern U.S. Atlantic, Gulf of Mexico shrimp trawl fishery.

Summary of Changes From the Proposed Rule

NMFS updates the estimated number of vessels/persons in the “WA salmon purse seine” fishery from 440 to 75.

NMFS updates the estimated number of vessels/persons in the “WA salmon reef net” fishery from 53 to 11.

NMFS corrects a typographical error and removes West Indian manatee (FL) from the list of species/stock incidentally killed or injured in the “Southeastern U.S. Atlantic, Gulf of Mexico shrimp trawl” fishery.

Summary of Changes to the LOF for 2014

The following summarizes changes to the LOF for 2014 in the estimated number of vessels/persons in a particular fishery and the species or stocks that are incidentally killed or injured in a particular fishery. The LOF for 2014 has no changes to fishery classifications or to fisheries that are subject to a take reduction plan. The classifications and definitions of U.S. commercial fisheries for 2014 are identical to those provided in the LOF for 2013 with the changes discussed below. State and regional abbreviations used in the following paragraphs include: AK (Alaska), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Number of Vessels/Persons

NMFS updates the estimated number of vessels/persons in the commercial fisheries operating in the Pacific Ocean as follows:

NMFS updates the estimated number of vessels/persons in the “CA thresher shark/swordfish drift gillnet (≥14 in mesh)” fishery from 25 to 19.

NMFS updates the estimated number of vessels/persons in the “CA spot prawn pot” fishery from 27 to 28.

NMFS updates the estimated number of vessels/persons in the “CA Dungeness crab pot” fishery from 534 to 570.

NMFS updates the estimated number of vessels/persons in the “CA pelagic longline” fishery from 6 to 1.

NMFS updates the estimated number of vessels/persons in the “CA coonstripe shrimp, rock crab, tanner crab pot/trap” fishery from 305 to 203.

NMFS updates the estimated number vessels/persons in the “CA spiny lobster trap” fishery from 225 to 198.

List of Species or Stocks Incidentally Killed or Injured in the Pacific Ocean

NMFS updates the list of species or stocks incidentally killed or injured by commercial fisheries operating in the Pacific Ocean as follows:

NMFS adds minke whale (CA/OR/WA stock) to the list of species/stocks incidentally killed or injured in the “CA thresher shark and swordfish drift gillnet” fishery.

NMFS adds grey whale (Eastern North Pacific) to the list of species/stocks incidentally killed or injured in the “Bering Sea, Aleutian Islands crab pot” fishery.

NMFS changes the false killer whale stock name from “HI Insular” to “MHI Insular” on the list of species/stocks incidentally killed or injured in the “HI deep-set (tuna target) longline” fishery and removes the superscript “1” to indicate the stock is no longer driving the fishery's Category I classification.

NMFS adds sperm whale (HI stock) to the list of species/stocks incidentally killed or injured in the “HI deep-set (tuna target) longline” fishery.

NMFS adds Blainville's beaked whale (HI stock) to the list of species/stocks incidentally killed or injured in the “HI shallow-set (swordfish target) longline” fishery.

NMFS adds Cuvier's beaked whale (unknown stock), short-finned pilot whale (unknown stock), and bottlenose dolphin (unknown stock) to the list of species/stocks incidentally killed or injured in the “American Samoa longline” fishery.

Commercial Fisheries in the Atlantic Ocean, Gulf of Mexico, and Caribbean

List of Species or Stocks Incidentally Killed or Injured

NMFS updates the list of species or stocks incidentally killed or injured by commercial fisheries operating in the Atlantic Ocean, Gulf of Mexico, and Caribbean as follows:

NMFS adds several stocks to the list of species/stocks incidentally killed or injured in the “Atlantic Ocean, Gulf of Mexico, Caribbean passenger vessel” fishery. NMFS adds the following bottlenose dolphin stocks: (1) Northern migratory coastal stock, (2) Southern migratory coastal stock, (3) Southern South Carolina/Georgia coastal stock, (4) Northern Florida coastal stock, (5) Central Florida coastal stock, (6) Northern North Carolina estuarine stock, (7) Northern Georgia/Southern South Carolina estuarine stock, (8) Jacksonville estuarine system stock.

NMFS adds bottlenose dolphin (Western North Atlantic offshore stock) to the list of species/stocks incidentally killed or injured in the “Gulf of Maine, U.S. Mid-Atlantic tuna, shark, swordfish hook-and-line/harpoon” fishery.

NMFS removes bottlenose dolphin (Western North Atlantic offshore stock) from the list of species/stocks incidentally killed or injured in the “Mid-Atlantic mid-water trawl” fishery.

Commercial Fisheries on the High Seas

Removal of Fisheries From the LOF

NMFS removes: (1) Category II Western Pacific pelagic “pot vessel,” “factory mothership,” and “multipurpose vessels not elsewhere identified (NEI);” (2) Category II Pacific highly migratory species “pot vessel” and “multipurpose vessels (NEI);” (3) Category II South Pacific albacore troll “pot vessel” and “multipurpose vessels (NEI);” and (4) Category II Atlantic highly migratory species “multipurpose vessels (NEI)” fisheries from the LOF.

NMFS corrects a typographical mistake and removes the Category III “Atlantic highly migratory species purse seine” fisheries from the LOF.

Number of Vessels/Persons

NMFS updates the estimated number of HSFCA permits for commercial fisheries operating on the high seas as follows:

Category | High seas fishery | Number of HSFCA permits (Final 2013 LOF) | Number of HSFCA permits (Final 2014 LOF)
I | Atlantic highly migratory species longline | 79 | 84
II | Atlantic highly migratory species drift gillnet | 2 | 1
II | Atlantic highly migratory species trawl | 5 | 1
II | South Pacific tuna fisheries purse seine | 38 | 40
II | South Pacific albacore troll longline | 11 | 13
II | South Pacific tuna fisheries longline | 10 | 8
II | Pacific highly migratory species handline/pole and line | 40 | 46
II | South Pacific albacore troll handline/pole and line | 7 | 9
II | Western Pacific pelagic handline/pole and line | 6 | 5
II | Atlantic highly migratory species troll | 5 | 4
II | South Pacific albacore troll | 36 | 33
II | South Pacific tuna fisheries troll | 3 | 2
II | Western Pacific pelagic troll | 22 | 19
II | Pacific highly migratory species liners nei | 1 | 3
III | Pacific highly migratory species longline | 96 | 101
III | Pacific highly migratory species purse seine | 6 | 8
III | Pacific highly migratory species troll | 263 | 262

List of Species or Stocks Incidentally Killed or Injured in High Seas Fisheries

NMFS updates the list of species or stocks incidentally killed or injured by commercial fisheries on the high seas as follows:

NMFS removes the following “unknown” stocks from the list of species/stocks incidentally killed or injured in the Category I “Western Pacific Pelagic longline (HI Deep-set component)” fishery: bottlenose dolphin, false killer whale, pantropical spotted dolphin, Risso's dolphin, short-finned pilot whale, and striped dolphin.

NMFS adds sperm whale (HI stock) to the list of species/stocks incidentally killed or injured in the Category I “Western Pacific Pelagic longline (HI Deep-set component)” fishery.

NMFS removes the following “unknown” stocks from the list of species/stocks incidentally killed or injured in the Category II “Western Pacific Pelagic longline (HI Shallow-set component)” fishery: bottlenose dolphin, Kogia sp. whale (pygmy or dwarf sperm whale), Risso's dolphin, short-finned pilot whale, and striped dolphin.

NMFS adds false killer whale (HI Pelagic stock), short-beaked common dolphin (CA/OR/WA), and Blainville's beaked whale (HI stock) to the list of species/stocks incidentally killed or injured in the Category II “Western Pacific Pelagic longline (HI Shallow-set component)” fishery.

NMFS corrects a typographical error and removes pygmy sperm whale (WNA stock) from the list of species/stocks incidentally killed or injured in the “Atlantic Highly Migratory Species longline” fishery.

List of Fisheries

The following tables set forth the list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimations may be inflations of actual effort, such as for many of the Mid-Atlantic and New England fisheries. However, in these cases, the numbers represent the potential effort for each fishery, given the multiple gear types for which several state permits may allow. Changes made to Mid-Atlantic and New England fishery participants will not affect observer coverage or bycatch estimates as observer coverage and bycatch estimates are based on vessel trip reports and landings data. Table 1 and 2 serve to provide a description of the fishery's potential effort (state and Federal). If NMFS is able to extract more accurate information on the gear types used by state permit holders in the future, the numbers will be updated to reflect this change. For additional information on fishing effort in fisheries found on Table 1 or 2, contact the relevant regional office (contact information included above in SUPPLEMENTARY INFORMATION).

For high seas fisheries, Table 3 lists the number of currently valid HSFCA permits held. Although this likely overestimates the number of active participants in many of these fisheries, the number of valid HSFCA permits is the most reliable data on the potential effort in high seas fisheries at this time. As noted previously in this rule, the number of HSFCA permits listed in Table 3 for the high seas components of fisheries that also operate within U.S. waters does not necessarily represent additional effort that is not accounted for in Tables 1 and 2. Many vessels/persons holding HSFCA permits also fishing within U.S. waters and are included in the number of vessels and participants operating within those fisheries in Tables 1 and 2.

Tables 1, 2, and 3 also list the marine mammal species or stocks incidentally killed or injured (seriously or non-seriously) in each fishery based on observer data, logbook data, stranding reports, disentanglement network data, and MMAP reports. The best available scientific information included in these reports is based on data through 2011. This list includes all species or stocks known to be injured or killed in a given fishery but also includes species or stocks for which there are anecdotal records of a mortality or injury. Additionally, species identified by logbook entries, stranding data, or fishermen self-reports (i.e., MMAP reports) may not be verified. In Tables 1 and 2, NMFS has designated those stocks driving a fishery's classification (i.e., the fishery is classified based on mortalities and serious injuries and of a marine mammal stock that are greater than or equal to 50 percent [Category I], or greater than 1 percent and less than 50 percent [Category II], of a stock's PBR) by a “¹” after the stock's name.

In Tables 1 and 2, there are several fisheries classified as Category II that have no recent documented mortalities and injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear used, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the EEZ boundary and therefore operate both within U.S. waters and on the high seas. These fisheries, though listed separately between Table 1 or 2 and Table 3, are considered the same fishery on either side of the EEZ boundary. NMFS has designated those fisheries in each table by a “*” after the fishery's name.

Table 1—List of Fisheries—Commercial Fisheries in the Pacific Ocean
Fishery Description | Estimated number of vessels/ persons | Marine mammal species and stocks incidentally killed or injured
Category I
LONGLINE/SET LINE FISHERIES:
HI deep-set (tuna target) longline/set line * ^ | 129 | Bottlenose dolphin, HI Pelagic. False killer whale, MHI Insular. False killer whale, HI Pelagic.¹ False killer whale, Palmyra Atoll. Pantropical spotted dolphin, HI. Risso's dolphin, HI. Short-finned pilot whale, HI. Sperm whale, HI. Striped dolphin, HI.
GILLNET FISHERIES:
CA thresher shark/swordfish drift gillnet (≥14 in mesh) * | 19 | Bottlenose dolphin, CA/OR/WA offshore. California sea lion, U.S. Humpback whale, CA/OR/WA. Long-beaked common dolphin, CA. Minke whale, CA/OR/WA. Northern elephant seal, CA breeding. Northern right-whale dolphin, CA/OR/WA. Pacific white-sided dolphin, CA/OR/WA. Risso's dolphin, CA/OR/WA. Short-beaked common dolphin, CA/OR/WA. Sperm Whale, CA/OR/WA ¹.
Category II
GILLNET FISHERIES:
CA halibut/white seabass and other species set gillnet (>3.5 in mesh) | 50 | California sea lion, U.S. Harbor seal, CA. Humpback whale, CA/OR/WA.¹ Long-beaked common dolphin, CA. Northern elephant seal, CA breeding. Sea otter, CA. Short-beaked common dolphin, CA/OR/WA.
CA yellowtail, barracuda, and white seabass drift gillnet (mesh size ≥3.5 in and <14 in) ² | 30 | California sea lion, U.S. Long-beaked common dolphin, CA. Short-beaked common dolphin, CA/OR/WA.
AK Bristol Bay salmon drift gillnet ² | 1,863 | Beluga whale, Bristol Bay. Gray whale, Eastern North Pacific. Harbor seal, Bering Sea. Northern fur seal, Eastern Pacific. Pacific white-sided dolphin, North Pacific. Spotted seal, AK. Steller sea lion, Western U.S.
AK Bristol Bay salmon set gillnet ² | 982 | Beluga whale, Bristol Bay. Gray whale, Eastern North Pacific. Harbor seal, Bering Sea. Northern fur seal, Eastern Pacific. Spotted seal, AK.
AK Kodiak salmon set gillnet | 188 | Harbor porpoise, GOA.¹ Harbor seal, GOA. Sea otter, Southwest AK. Steller sea lion, Western U.S.
AK Cook Inlet salmon set gillnet | 738 | Beluga whale, Cook Inlet. Dall's porpoise, AK. Harbor porpoise, GOA. Harbor seal, GOA. Humpback whale, Central North Pacific.¹ Steller sea lion, Western U.S.
AK Cook Inlet salmon drift gillnet | 569 | Beluga whale, Cook Inlet. Dall's porpoise, AK. Harbor porpoise, GOA.¹ Harbor seal, GOA. Steller sea lion, Western U.S.
AK Peninsula/Aleutian Islands salmon drift gillnet ² | 162 | Dall's porpoise, AK. Harbor porpoise, GOA. Harbor seal, GOA. Northern fur seal, Eastern Pacific
AK Peninsula/Aleutian Islands salmon set gillnet ² | 114 | Harbor porpoise, Bering Sea. Steller sea lion, Western U.S.
AK Prince William Sound salmon drift gillnet | 537 | Dall's porpoise, AK. Harbor porpoise, GOA.¹ Harbor seal, GOA. Northern fur seal, Eastern Pacific. Pacific white-sided dolphin, North Pacific. Sea otter, South Central AK. Steller sea lion, Western U.S.¹
AK Southeast salmon drift gillnet | 474 | Dall's porpoise, AK. Harbor porpoise, Southeast AK. Harbor seal, Southeast AK. Humpback whale, Central North Pacific.¹ Pacific white-sided dolphin, North Pacific. Steller sea lion, Eastern U.S.
AK Yakutat salmon set gillnet ² | 167 | Gray whale, Eastern North Pacific. Harbor Porpoise, Southeastern AK. Harbor seal, Southeast AK. Humpback whale, Central North Pacific (Southeast AK).
WA Puget Sound Region salmon drift gillnet (includes all inland waters south of US-Canada border and eastward of the Bonilla-Tatoosh line-Treaty Indian fishing is excluded) | 210 | Dall's porpoise, CA/OR/WA. Harbor porpoise, inland WA.¹ Harbor seal, WA inland.
PURSE SEINE FISHERIES:
AK Cook Inlet salmon purse seine | 82 | Humpback whale, Central North Pacific.¹
AK Kodiak salmon purse seine | 379 | Humpback whale, Central North Pacific.¹
TRAWL FISHERIES:
AK Bering Sea, Aleutian Islands flatfish trawl | 34 | Bearded seal, AK. Gray whale, Eastern North Pacific. Harbor porpoise, Bering Sea. Harbor seal, Bering Sea. Humpback whale, Western North Pacific.¹ Killer whale, AK resident.¹ Killer whale, GOA, AI, BS transient.¹ Northern fur seal, Eastern Pacific. Ringed seal, AK. Ribbon seal, AK. Spotted seal, AK. Steller sea lion, Western U.S.¹ Walrus, AK.
AK Bering Sea, Aleutian Islands pollock trawl | 95 | Bearded Seal, AK. Dall's porpoise, AK. Harbor seal, AK. Humpback whale, Central North Pacific. Humpback whale, Western North Pacific. Northern fur seal, Eastern Pacific. Ribbon seal, AK. Ringed seal, AK. Spotted seal, AK. Steller sea lion, Western U.S.¹
AK Bering Sea, Aleutian Islands rockfish trawl | 10 | Killer whale, ENP AK resident¹. Killer whale, GOA, AI, BS transient.¹
POT, RING NET, AND TRAP FISHERIES:
CA spot prawn pot | 28 | Gray whale, Eastern North Pacific. Humpback whale, CA/OR/WA.¹
CA Dungeness crab pot | 570 | Gray whale, Eastern North Pacific. Humpback whale, CA/OR/WA.¹
OR Dungeness crab pot | 433 | Gray whale, Eastern North Pacific. Humpback whale, CA/OR/WA.¹
WA/OR/CA sablefish pot | 309 | Humpback whale, CA/OR/WA.¹
WA coastal Dungeness crab pot/trap | 228 | Gray whale, Eastern North Pacific. Humpback whale, CA/OR/WA.¹
LONGLINE/SET LINE FISHERIES:
HI shallow-set (swordfish target) longline/set line * ^ | 20 | Blainville's beaked whale, HI. Bottlenose dolphin, HI Pelagic. False killer whale, HI Pelagic.¹ Humpback whale, Central North Pacific. Kogia sp. whale (Pygmy or dwarf sperm whale), HI. Risso's dolphin, HI. Short-finned pilot whale, HI. Striped dolphin, HI
American Samoa longline ² | 24 | Bottlenose dolphin, unknown. Cuvier's beaked whale, unknown. False killer whale, American Samoa. Rough-toothed dolphin, American Samoa. Short-finned pilot whale, unknown.
HI shortline ² | 11 | None documented.
Category III
GILLNET FISHERIES:
AK Kuskokwim, Yukon, Norton Sound, Kotzebue salmon gillnet | 1,702 | Harbor porpoise, Bering Sea.
AK miscellaneous finfish set gillnet | 3 | Steller sea lion, Western U.S.
AK Prince William Sound salmon set gillnet | 30 | Harbor seal, GOA. Steller sea lion, Western U.S.
AK roe herring and food/bait herring gillnet | 990 | None documented.
CA set gillnet (mesh size <3.5 in) | 304 | None documented.
HI inshore gillnet | 36 | Bottlenose dolphin, HI. Spinner dolphin, HI.
WA Grays Harbor salmon drift gillnet (excluding treaty Tribal fishing) | 24 | Harbor seal, OR/WA coast.
WA/OR herring, smelt, shad, sturgeon, bottom fish, mullet, perch, rockfish gillnet | 913 | None documented.
WA/OR lower Columbia River (includes tributaries) drift gillnet | 110 | California sea lion, U.S. Harbor seal, OR/WA coast.
WA Willapa Bay drift gillnet | 82 | Harbor seal, OR/WA coast. Northern elephant seal, CA breeding.
PURSE SEINE, BEACH SEINE, ROUND HAUL, THROW NET AND TANGLE NET FISHERIES:
AK Southeast salmon purse seine | 415 | None documented in the most recent 5 years of data.
AK Metlakatla salmon purse seine | 10 | None documented.
AK miscellaneous finfish beach seine | 1 | None documented.
AK miscellaneous finfish purse seine | 2 | None documented.
AK octopus/squid purse seine | 0 | None documented.
AK roe herring and food/bait herring beach seine | 6 | None documented.
AK roe herring and food/bait herring purse seine | 367 | None documented.
AK salmon beach seine | 31 | None documented.
AK salmon purse seine (excluding salmon purse seine fisheries listed as Category II) | 935 | Harbor seal, GOA.
CA anchovy, mackerel, sardine purse seine | 65 | California sea lion, U.S. Harbor seal, CA.
CA squid purse seine | 80 | Long-beaked common dolphin, CA Short-beaked common dolphin, CA/OR/WA.
CA tuna purse seine * | 10 | None documented.
WA/OR sardine purse seine | 42 | None documented.
WA (all species) beach seine or drag seine | 235 | None documented.
WA/OR herring, smelt, squid purse seine or lampara | 130 | None documented.
WA salmon purse seine | 75 | None documented.
WA salmon reef net | 11 | None documented.
HI opelu/akule net | 22 | None documented.
HI inshore purse seine | <3 | None documented.
HI throw net, cast net | 29 | None documented.
HI hukilau net | 26 | None documented.
HI lobster tangle net | 0 | None documented.
DIP NET FISHERIES:
CA squid dip net | 115 | None documented.
WA/OR smelt, herring dip net | 119 | None documented.
MARINE AQUACULTURE FISHERIES:
CA marine shellfish aquaculture | unknown | None documented.
CA salmon enhancement rearing pen | >1 | None documented.
CA white seabass enhancement net pens | 13 | California sea lion, U.S.
HI offshore pen culture | 2 | None documented.
OR salmon ranch | 1 | None documented.
WA/OR salmon net pens | 14 | California sea lion, U.S. Harbor seal, WA inland waters.
TROLL FISHERIES:
AK North Pacific halibut, AK bottom fish, WA/OR/CA albacore, groundfish, bottom fish, CA halibut non-salmonid troll fisheries * | 1,320 (120 AK) | None documented.
AK salmon troll | 2,008 | Steller sea lion, Eastern U.S. Steller sea lion, Western U.S.
American Samoa tuna troll | 7 | None documented.
CA/OR/WA salmon troll | 4,300 | None documented.
HI trolling, rod and reel | 1,560 | Pantropical spotted dolphin, HI.
Commonwealth of the Northern Mariana Islands tuna troll | 40 | None documented.
Guam tuna troll | 432 | None documented.
LONGLINE/SET LINE FISHERIES:
AK Bering Sea, Aleutian Islands Pacific cod longline | 154 | Dall's Porpoise, AK. Northern fur seal, Eastern Pacific.
AK Bering Sea, Aleutian Islands rockfish longline | 0 | None documented.
AK Bering Sea, Aleutian Islands Greenland turbot longline | 36 | Killer whale, AK resident.
AK Bering Sea, Aleutian Islands sablefish longline | 28 | None documented.
AK Gulf of Alaska halibut longline | 1,302 | None documented.
AK Gulf of Alaska Pacific cod longline | 107 | Steller sea lion, Western U.S.
AK Gulf of Alaska rockfish longline | 0 | None documented.
AK Gulf of Alaska sablefish longline | 291 | Sperm whale, North Pacific.
AK halibut longline/set line (state and Federal waters) | 2,280 | None documented in the most recent 5 years of data.
AK octopus/squid longline | 2 | None documented.
AK state-managed waters longline/setline (including sablefish, rockfish, lingcod, and miscellaneous finfish) | 1,323 | None documented.
WA/OR/CA groundfish, bottomfish longline/set line | 367 | Bottlenose dolphin, CA/OR/WA offshore.
WA/OR North Pacific halibut longline/set line | 350 | None documented.
CA pelagic longline | 1 | None documented in the most recent 5 years of data.
HI kaka line | 17 | None documented.
HI vertical longline | 9 | None documented.
TRAWL FISHERIES:
AK Bering Sea, Aleutian Islands Atka mackerel trawl | 9 | Ribbon seal, AK. Steller sea lion, Western U.S.
AK Bering Sea, Aleutian Islands Pacific cod trawl | 93 | Steller sea lion, Western U.S.
AK Gulf of Alaska flatfish trawl | 41 | Northern elephant seal, North Pacific.
AK Gulf of Alaska Pacific cod trawl | 62 | Steller sea lion, Western U.S.
AK Gulf of Alaska pollock trawl | 62 | Dall's porpoise, AK. Fin whale, Northeast Pacific. Northern elephant seal, North Pacific. Steller sea lion, Western U.S.
AK Gulf of Alaska rockfish trawl | 34 | None documented.
AK food/bait herring trawl | 4 | None documented.
AK miscellaneous finfish otter/beam trawl | 282 | None documented.
AK shrimp otter trawl and beam trawl (statewide and Cook Inlet) | 33 | None documented.
AK state-managed waters of Cook Inlet, Kachemak Bay, Prince William Sound, Southeast AK groundfish trawl | 2 | None documented.
CA halibut bottom trawl | 53 | None documented.
WA/OR/CA shrimp trawl | 300 | None documented.
WA/OR/CA groundfish trawl | 160-180 | California sea lion, U.S. Dall's porpoise, CA/OR/WA. Harbor seal, OR/WA coast. Northern fur seal, Eastern Pacific. Pacific white-sided dolphin, CA/OR/WA. Steller sea lion, Eastern U.S.
POT, RING NET, AND TRAP FISHERIES:
AK statewide miscellaneous finfish pot | 243 | None documented.
AK Aleutian Islands sablefish pot | 8 | None documented.
AK Bering Sea, Aleutian Islands Pacific cod pot | 68 | None documented.
AK Bering Sea, Aleutian Islands crab pot | 296 | Grey whale, Eastern North Pacific.
AK Bering Sea sablefish pot | 6 | None documented.
AK Gulf of Alaska crab pot | 389 | None documented.
AK Gulf of Alaska Pacific cod pot | 154 | Harbor seal, GOA.
AK Southeast Alaska crab pot | 415 | Humpback whale, Central North Pacific (Southeast AK).
AK Southeast Alaska shrimp pot | 274 | Humpback whale, Central North Pacific (Southeast AK).
AK shrimp pot, except Southeast | 210 | None documented.
AK octopus/squid pot | 26 | None documented.
AK snail pot | 1 | None documented.
CA coonstripe shrimp, rock crab, tanner crab pot or trap | 203 | Gray whale, Eastern North Pacific. Harbor seal, CA.
CA spiny lobster | 198 | Gray whale, Eastern North Pacific.
OR/CA hagfish pot or trap | 54 | None documented.
WA/OR shrimp pot/trap | 254 | None documented.
WA Puget Sound Dungeness crab pot/trap | 249 | None documented.
HI crab trap | 9 | None documented.
HI fish trap | 9 | None documented.
HI lobster trap | <3 | Hawaiian monk seal.
HI shrimp trap | 4 | None documented.
HI crab net | 6 | None documented.
HI Kona crab loop net | 48 | None documented.
HANDLINE AND JIG FISHERIES:
AK miscellaneous finfish handline/hand troll and mechanical jig | 456 | None documented.
AK North Pacific halibut handline/hand troll and mechanical jig | 180 | None documented.
AK octopus/squid handline | 0 | None documented.
American Samoa bottomfish | 12 | None documented.
Commonwealth of the Northern Mariana Islands bottomfish | 28 | None documented.
Guam bottomfish | >300 | None documented.
HI aku boat, pole, and line | 3 | None documented.
HI Main Hawaiian Islands deep-sea bottomfish handline | 567 | Hawaiian monk seal.
HI inshore handline | 378 | None documented.
HI tuna handline | 459 | None documented.
WA groundfish, bottomfish jig | 679 | None documented.
Western Pacific squid jig | <3 | None documented.
HARPOON FISHERIES:
CA swordfish harpoon | 30 | None documented.
POUND NET/WEIR FISHERIES:
AK herring spawn on kelp pound net | 411 | None documented.
AK Southeast herring roe/food/bait pound net | 4 | None documented.
WA herring brush weir | 1 | None documented.
HI bullpen trap | <3 | None documented.
BAIT PENS:
WA/OR/CA bait pens | 13 | California sea lion, U.S.
DREDGE FISHERIES:
Coastwide scallop dredge | 108 (12 AK) | None documented.
DIVE, HAND/MECHANICAL COLLECTION FISHERIES:
AK abalone | 0 | None documented.
AK clam | 156 | None documented.
WA herring spawn on kelp | 4 | None documented.
AK Dungeness crab | 2 | None documented.
AK herring spawn on kelp | 266 | None documented.
AK urchin and other fish/shellfish | 521 | None documented.
CA abalone | 0 | None documented.
CA sea urchin | 583 | None documented.
HI black coral diving | <3 | None documented.
HI fish pond | 16 | None documented.
HI handpick | 57 | None documented.
HI lobster diving | 29 | None documented.
HI spearfishing | 143 | None documented.
WA/CA kelp | 4 | None documented.
WA/OR sea urchin, other clam, octopus, oyster, sea cucumber, scallop, ghost shrimp hand, dive, or mechanical collection | 637 | None documented.
WA shellfish aquaculture | 684 | None documented.
COMMERCIAL PASSENGER FISHING VESSEL (CHARTER BOAT) FISHERIES:
AK/WA/OR/CA commercial passenger fishing vessel | >7,000 (2,702 AK) | Killer whale, unknown. Steller sea lion, Eastern U.S. Steller sea lion, Western U.S.
HI charter vessel | 114 | Pantropical spotted dolphin, HI.
LIVE FINFISH/SHELLFISH FISHERIES:
CA nearshore finfish live trap/hook-and-line | 93 | None documented.
List of Abbreviations and Symbols Used in Table 1: AK—Alaska; CA—California; GOA—Gulf of Alaska; HI—Hawaii; OR—Oregon; WA—Washington; ¹ Fishery classified based on mortalities and serious injuries of this stock, which are greater than or equal to 50 percent (Category I) or greater than 1 percent and less than 50 percent (Category II) of the stock's PBR; ² Fishery classified by analogy; * Fishery has an associated high seas component listed in Table 3; ^ The list of marine mammal species or stocks killed or injured in this fishery is identical to the list of species or stocks killed or injured in high seas component of the fishery, minus species or stocks have geographic ranges exclusively on the high seas. The species or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels; persons | Marine mammal species and stocks incidentally killed or injured
CATEGORY I
GILLNET FISHERIES:
Mid-Atlantic gillnet | 5,509 | Bottlenose dolphin, Northern Migratory coastal.¹ Bottlenose dolphin, Southern Migratory coastal.¹ Bottlenose dolphin, Northern NC estuarine system.¹ Bottlenose dolphin, Southern NC estuarine system.¹ Bottlenose dolphin, WNA offshore. Common dolphin, WNA. Gray seal, WNA. Harbor porpoise, GME;BF. Harbor seal, WNA. Harp seal, WNA. Humpback whale, Gulf of Maine. Long-finned pilot whale, WNA. Minke whale, Canadian east coast. Risso's dolphin, WNA. Short-finned pilot whale, WNA. White-sided dolphin, WNA.
Northeast sink gillnet | 4,375 | Bottlenose dolphin, WNA offshore. Common dolphin, WNA. Fin whale, WNA. Gray seal, WNA. Harbor porpoise, GME/BF.¹ Harbor seal, WNA. Harp seal, WNA. Hooded seal, WNA. Humpback whale, Gulf of Maine. Long-finned Pilot whale, WNA. Minke whale, Canadian east coast. North Atlantic right whale, WNA. Risso's dolphin, WNA. Short-finned Pilot whale, WNA. White-sided dolphin, WNA.
TRAP/POT FISHERIES:
Northeast/Mid-Atlantic American lobster trap/pot | 11,693 | Harbor seal, WNA. Humpback whale, Gulf of Maine. Minke whale, Canadian east coast. North Atlantic right whale, WNA.¹
LONGLINE FISHERIES:
Atlantic Ocean, Caribbean, Gulf of Mexico large pelagics longline * | 420 | Atlantic spotted dolphin, GMX continental and oceanic. Atlantic spotted dolphin, WNA. Bottlenose dolphin, Northern GMX oceanic. Bottlenose dolphin, WNA offshore. Common dolphin, WNA. Cuvier's beaked whale, WNA. Killer whale, GMX oceanic. Long-finned pilot whale, WNA.¹ Mesoplodon beaked whale, WNA. Northern bottlenose whale, WNA. Pantropical spotted dolphin, Northern GMX. Pantropical spotted dolphin, WNA. Risso's dolphin, Northern GMX. Risso's dolphin, WNA. Short-finned pilot whale, Northern GMX. Short-finned pilot whale, WNA.¹ Sperm whale, GMX oceanic.
CATEGORY II
GILLNET FISHERIES:
Chesapeake Bay inshore gillnet ² | 1,126 | None documented in the most recent 5 years of data.
Gulf of Mexico gillnet ² | 724 | Bottlenose dolphin, GMX bay, sound, and estuarine. Bottlenose dolphin, Northern GMX coastal. Bottlenose dolphin, Western GMX coastal.
NC inshore gillnet | 1,323 | Bottlenose dolphin, Northern NC estuarine system.¹ Bottlenose dolphin, Southern NC estuarine system.¹
Northeast anchored float gillnet ² | 421 | Harbor seal, WNA. Humpback whale, Gulf of Maine. White-sided dolphin, WNA.
Northeast drift gillnet ² | 311 | None documented.
Southeast Atlantic gillnet ² | 357 | Bottlenose dolphin, Central FL coastal. Bottlenose dolphin, Northern FL coastal. Bottlenose dolphin, SC/GA coastal. Bottlenose dolphin, Southern Migratory coastal.
Southeastern U.S. Atlantic shark gillnet | 30 | Bottlenose dolphin, Central FL coastal.¹ Bottlenose dolphin, Northern FL coastal. North Atlantic right whale, WNA.
TRAWL FISHERIES:
Mid-Atlantic mid-water trawl (including pair trawl) | 322 | Common dolphin, WNA. Long-finned pilot whale, WNA. Risso's dolphin, WNA. Short-finned pilot whale, WNA. White-sided dolphin, WNA.¹
Mid-Atlantic bottom trawl | 631 | Bottlenose dolphin, WNA offshore. Common dolphin, WNA.¹ Gray seal, WNA. Harbor seal, WNA. Long-finned pilot whale, WNA.¹ Risso's dolphin, WNA.¹ Short-finned pilot whale, WNA.¹ White-sided dolphin, WNA.
Northeast mid-water trawl (including pair trawl) | 1,103 | Gray seal, WNA. Harbor seal, WNA. Long-finned pilot whale, WNA.¹ Short-finned pilot whale, WNA.¹ Common dolphin, WNA. White-sided dolphin, WNA.
Northeast bottom trawl | 2,987 | Bottlenose dolphin, WNA offshore. Common dolphin, WNA. Gray seal, WNA. Harbor porpoise, GME/BF. Harbor seal, WNA. Harp seal, WNA. Long-finned pilot whale, WNA. Minke whale, Canadian East Coast. Short-finned pilot whale, WNA. White-sided dolphin, WNA.¹
Southeastern U.S. Atlantic, Gulf of Mexico shrimp trawl | 4,950 | Atlantic spotted dolphin, GMX continental and oceanic. Bottlenose dolphin, Eastern GMX coastal.¹ Bottlenose dolphin, GMX bay, sound, estuarine.¹ Bottlenose dolphin, GMX continental shelf. Bottlenose dolphin, Northern GMX coastal. Bottlenose dolphin, SC/GA coastal.¹ Bottlenose dolphin, Western GMX coastal.¹
TRAP/POT FISHERIES:
Southeastern U.S. Atlantic, Gulf of Mexico stone crab trap/pot ² | 1,282 | Bottlenose dolphin, Biscayne Bay estuarine. Bottlenose dolphin, Central FL coastal. Bottlenose dolphin, Eastern GMX coastal. Bottlenose dolphin, FL Bay. Bottlenose dolphin, GMX bay, sound, estuarine (FL west coast portion). Bottlenose dolphin, Indian River Lagoon estuarine system. Bottlenose dolphin, Jacksonville estuarine system. Bottlenose dolphin, Northern GMX coastal.
Atlantic mixed species trap/pot ² | 3,467 | Fin whale, WNA. Humpback whale, Gulf of Maine.
Atlantic blue crab trap/pot | 8,557 | Bottlenose dolphin, Central FL coastal.¹ Bottlenose dolphin, Charleston estuarine system.¹ Bottlenose dolphin, Indian River Lagoon estuarine system.¹ Bottlenose dolphin, Jacksonville estuarine system.¹ Bottlenose dolphin, Northern FL coastal.¹ Bottlenose dolphin, Northern GA/Southern SC estuarine system.¹ Bottlenose dolphin, Northern Migratory coastal.¹ Bottlenose dolphin, Northern NC estuarine system.¹ Bottlenose dolphin, SC/GA coastal.¹ Bottlenose dolphin, Southern GA estuarine system.¹ Bottlenose dolphin, Southern Migratory coastal.¹ Bottlenose dolphin, Southern NC estuarine system¹ West Indian manatee, FL.¹
PURSE SEINE FISHERIES:
Gulf of Mexico menhaden purse seine | 40-42 | Bottlenose dolphin, GMX bay, sound, estuarine. Bottlenose dolphin, Northern GMX coastal.¹ Bottlenose dolphin, Western GMX coastal.¹
Mid-Atlantic menhaden purse seine ² | 5 | Bottlenose dolphin, Northern Migratory coastal. Bottlenose dolphin, Southern Migratory coastal.
HAUL/BEACH SEINE FISHERIES:
Mid-Atlantic haul/beach seine | 565 | Bottlenose dolphin, Northern Migratory coastal.¹ Bottlenose dolphin, Northern NC estuarine system.¹ Bottlenose dolphin, Southern Migratory coastal.¹
NC long haul seine | 372 | Bottlenose dolphin, Northern NC estuarine system.¹ Bottlenose dolphin, Southern NC estuarine system.
STOP NET FISHERIES:
NC roe mullet stop net | 13 | Bottlenose dolphin, Northern Migratory coastal.¹
POUND NET FISHERIES:
VA pound net | 67 | Bottlenose dolphin, Northern NC estuarine system. Bottlenose dolphin, Southern Migratory coastal.¹ Bottlenose dolphin, Southern NC estuarine system.¹
CATEGORY III
GILLNET FISHERIES:
Caribbean gillnet | >991 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | None documented.
TRAWL FISHERIES:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, Southern South Carolina/Georgia.
MARINE AQUACULTURE FISHERIES:
Finfish aquaculture | 48 | Harbor seal, WNA.
Shellfish aquaculture | unknown | None documented.
PURSE SEINE FISHERIES:
Gulf of Maine Atlantic herring purse seine | >7 | Harbor seal, WNA. Gray seal, WNA.
Gulf of Maine menhaden purse seine | >2 | None documented.
FL West Coast sardine purse seine | 10 | Bottlenose dolphin, Eastern GMX coastal.
U.S. Atlantic tuna purse seine * | 5 | Long-finned pilot whale, WNA. Short-finned pilot whale, WNA.
LONGLINE/HOOK-AND-LINE FISHERIES:
Northeast/Mid-Atlantic bottom longline/hook-and-line | >1,207 | None documented.
Gulf of Maine, U.S. Mid-Atlantic tuna, shark swordfish hook-and-line/harpoon | 428 | Bottlenose dolphin, WNA offshore. Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | <125 | Bottlenose dolphin, Eastern GMX coastal. Bottlenose dolphin, Northern GMX continental shelf.
Southeastern U.S. Atlantic, Gulf of Mexico, and Caribbean pelagic hook-and-line/harpoon | 1,446 | None documented.
U.S. Atlantic, Gulf of Mexico trotline | unknown | None documented.
TRAP/POT FISHERIES:
Caribbean mixed species trap/pot | >501 | None documented.
Caribbean spiny lobster trap/pot | >197 | None documented.
FL spiny lobster trap/pot | 1,268 | Bottlenose dolphin, Biscayne Bay estuarine Bottlenose dolphin, Central FL coastal. Bottlenose dolphin, Eastern GMX coastal. Bottlenose dolphin, FL Bay estuarine.
Gulf of Mexico blue crab trap/pot | 4,113 | Bottlenose dolphin, Eastern GMX coastal. Bottlenose dolphin, GMX bay, sound, estuarine. Bottlenose dolphin, Northern GMX coastal. Bottlenose dolphin, Western GMX coastal. West Indian manatee, FL.
Gulf of Mexico mixed species trap/pot | unknown | None documented.
Southeastern U.S. Atlantic, Gulf of Mexico golden crab trap/pot | 10 | None documented.
U.S. Mid-Atlantic eel trap/pot | unknown | None documented.
STOP SEINE/WEIR/POUND NET/FLOATING TRAP FISHERIES:
Gulf of Maine herring and Atlantic mackerel stop seine/weir | >1 | Gray seal, WNA. Harbor porpoise, GME/BF. Harbor seal, WNA. Minke whale, Canadian east coast. Atlantic white-sided dolphin, WNA.
U.S. Mid-Atlantic crab stop seine/weir | 2,600 | None documented.
U.S. Mid-Atlantic mixed species stop seine/weir/pound net (except the NC roe mullet stop net) | unknown | Bottlenose dolphin, Northern NC estuarine system.
RI floating trap | 9 | None documented.
DREDGE FISHERIES:
Gulf of Maine mussel dredge | unknown | None documented.
Gulf of Maine, U.S. Mid-Atlantic sea scallop dredge | >403 | None documented.
U.S. Mid-Atlantic/Gulf of Mexico oyster dredge | 7,000 | None documented.
U.S. Mid-Atlantic offshore surf clam and quahog dredge | unknown | None documented.
HAUL/BEACH SEINE FISHERIES:
Caribbean haul/beach seine | 15 | None documented in the most recent 5 years of data.
Gulf of Mexico haul/beach seine | unknown | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
COMMERCIAL PASSENGER FISHING VESSEL (CHARTER BOAT) FISHERIES:
Atlantic Ocean, Gulf of Mexico, Caribbean commercial passenger fishing vessel | 4,000 | Bottlenose dolphin, Biscayne Bay estuarine. Bottlenose dolphin, Central FL coastal. Bottlenose dolphin, Eastern GMX coastal. Bottlenose dolphin, GMX bay, sound, estuarine. Bottlenose dolphin, Indian River Lagoon estuarine system. Bottlenose dolphin, Jacksonville estuarine system. Bottlenose dolphin, Northern FL coastal. Bottlenose dolphin, Northern GA/Southern SC estuarine. Bottlenose dolphin, Northern GMX coastal. Bottlenose dolphin, Northern migratory coastal. Bottlenose dolphin, Northern NC estuarine. Bottlenose dolphin, Southern migratory coastal. Bottlenose dolphin, Southern NC estuarine system. Bottlenose dolphin, Southern SC/GA coastal. Bottlenose dolphin, Western GMX coastal.
List of Abbreviations and Symbols Used in Table 2: DE—Delaware; FL—Florida; GA—Georgia; GME/BF—Gulf of Maine/Bay of Fundy; GMX—Gulf of Mexico; MA—Massachusetts; NC—North Carolina; SC—South Carolina; VA—Virginia; WNA—Western North Atlantic; ¹ Fishery classified based on mortalities and serious injuries of this stock, which are greater than or equal to 50 percent (Category I) or greater than 1 percent and less than 50 percent (Category II) of the stock's PBR; ² Fishery classified by analogy; * Fishery has an associated high seas component listed in Table 3.

Table 3—List of Fisheries—Commercial Fisheries on the High Seas
Fishery description | Number of HSFCA permits | Marine mammal species and stocks incidentally killed or injured
Category I
LONGLINE FISHERIES:
Atlantic Highly Migratory Species * | 84 | Atlantic spotted dolphin, WNA. Bottlenose dolphin, Northern GMX oceanic. Bottlenose dolphin, WNA offshore. Common dolphin, WNA. Cuvier's beaked whale, WNA. Long-finned pilot whale, WNA. Mesoplodon beaked whale, WNA. Risso's dolphin, WNA. Short-finned pilot whale, WNA.
Western Pacific Pelagic (HI Deep-set component) * ^ | 124 | Bottlenose dolphin, HI Pelagic. False killer whale, HI Pelagic. Pantropical spotted dolphin, HI. Risso's dolphin, HI. Short-finned pilot whale, HI. Sperm whale, HI. Striped dolphin, HI.
Category II
DRIFT GILLNET FISHERIES:
Atlantic Highly Migratory Species | 1 | Undetermined.
Pacific Highly Migratory Species * ^ | 4 | Long-beaked common dolphin, CA. Humpback whale, CA/OR/WA. Northern right-whale dolphin, CA/OR/WA. Pacific white-sided dolphin, CA/OR/WA. Risso's dolphin, CA/OR/WA. Short-beaked common dolphin, CA/OR/WA.
TRAWL FISHERIES:
Atlantic Highly Migratory Species ** | 1 | Undetermined.
CCAMLR | 0 | Antarctic fur seal.
Western Pacific Pelagic | 0 | Undetermined.
PURSE SEINE FISHERIES:
South Pacific Tuna Fisheries | 40 | Undetermined.
Western Pacific Pelagic | 3 | Undetermined.
LONGLINE FISHERIES:
CCAMLR | 0 | None documented.
South Pacific Albacore Troll | 13 | Undetermined.
South Pacific Tuna Fisheries ** | 8 | Undetermined.
Western Pacific Pelagic (HI Shallow-set component) * ^ | 28 | Blainville's beaked whale, HI. Bottlenose dolphin, HI Pelagic. False killer whale, HI Pelagic. Humpback whale, Central North Pacific. Kogia sp. whale (Pygmy or dwarf sperm whale), HI. Risso's dolphin, HI. Short-beaked common dolphin, CA/OR/WA. Short-finned pilot whale, HI Striped dolphin, HI.
HANDLINE/POLE AND LINE FISHERIES:
Atlantic Highly Migratory Species | 3 | Undetermined.
Pacific Highly Migratory Species | 46 | Undetermined.
South Pacific Albacore Troll | 9 | Undetermined.
Western Pacific Pelagic | 5 | Undetermined.
TROLL FISHERIES:
Atlantic Highly Migratory Species | 4 | Undetermined.
South Pacific Albacore Troll | 33 | Undetermined.
South Pacific Tuna Fisheries ** | 2 | Undetermined.
Western Pacific Pelagic | 19 | Undetermined.
LINERS NEI FISHERIES:
Pacific Highly Migratory Species ** | 3 | Undetermined.
South Pacific Albacore Troll | 1 | Undetermined.
Western Pacific Pelagic | 1 | Undetermined.
Category III
LONGLINE FISHERIES:
Pacific Highly Migratory Species * | 101 | None documented in the most recent 5 years of data.
PURSE SEINE FISHERIES
Pacific Highly Migratory Species * ^ | 8 | None documented.
TROLL FISHERIES:
Pacific Highly Migratory Species * ^ | 262 | None documented.
List of Terms, Abbreviations, and Symbols Used in Table 3:
GMX—Gulf of Mexico; NEI—Not Elsewhere Identified; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
^ The list of marine mammal species or stocks killed or injured in this fishery is identical to the list of marine mammal species or stocks killed or injured in U.S. waters component of the fishery, minus species or stocks that have geographic ranges exclusively in coastal waters, because the marine mammal species or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I: Mid-Atlantic gillnet. Northeast/Mid-Atlantic American lobster trap/pot. Northeast sink gillnet. Category II: Atlantic blue crab trap/pot. Atlantic mixed species trap/pot. Northeast anchored float gillnet. Northeast drift gillnet. Southeast Atlantic gillnet. Southeastern U.S. Atlantic shark gillnet.* Southeastern, U.S. Atlantic, Gulf of Mexico stone crab trap/pot.^
Bottlenose Dolphin Take Reduction Plan (BDTRP)—50 CFR 229.35 | Category I: Mid-Atlantic gillnet. Category II: Atlantic blue crab trap/pot. Chesapeake Bay inshore gillnet fishery. Mid-Atlantic haul/beach seine. Mid-Atlantic menhaden purse seine. NC inshore gillnet. NC long haul seine. NC roe mullet stop net. Southeast Atlantic gillnet. Southeastern U.S. Atlantic shark gillnet. Southeastern U.S. Atlantic, Gulf of Mexico shrimp trawl.^ Southeastern, U.S. Atlantic, Gulf of Mexico stone crab trap/pot.^ VA pound net.
False Killer Whale Take Reduction Plan (FKWTRP)—50 CFR 229.37 | Category I: HI deep-set (tuna target) longline/set line. Category II: HI shallow-set (swordfish target) longline/set line.
Harbor Porpoise Take Reduction Plan (HPTRP)—50 CFR 229.33 (New England) and 229.34 (Mid-Atlantic) | Category I: Mid-Atlantic gillnet. Northeast sink gillnet.
Pelagic Longline Take Reduction Plan (PLTRP)—50 CFR 229.36 | Category I: Atlantic Ocean, Caribbean, Gulf of Mexico large pelagics longline.
Pacific Offshore Cetacean Take Reduction Plan (POCTRP)—50 CFR 229.31 | Category I: CA thresher shark/swordfish drift gillnet (≥14 in mesh).
Take reduction teams | Affected Fisheries
Atlantic Trawl Gear Take Reduction Team (ATGTRT) | Category II: Mid-Atlantic bottom trawl. Mid-Atlantic mid-water trawl (including pair trawl). Northeast bottom trawl. Northeast mid-water trawl (including pair trawl).
* Only applicable to the portion of the fishery operating in U.S. waters;
^Only applicable to the portion of the fishery operating in the Atlantic Ocean.

Classification

The Chief Counsel for Regulation of the Department of Commerce certified to the Chief Counsel for Advocacy of the Small Business Administration (SBA) at the proposed rule stage that this rule would not have a significant economic impact on a substantial number of small entities. No comments were received on that certification, and no new information has been discovered to change that conclusion. Accordingly, no regulatory flexibility analysis is required, and none has been prepared.

This rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal mortalities or injuries has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This rule has been determined to be not significant for the purposes of Executive Order 12866.

An environmental assessment (EA) was prepared under the National Environmental Policy Act (NEPA) for regulations to implement section 118 of the MMPA in June 1995. NMFS revised that EA relative to classifying U.S. commercial fisheries on the LOF in December 2005. The 1995 EA, 2005 EA, and 2014 EA concluded that implementation of MMPA section 118 regulations would not have a significant impact on the human environment. This rule would not make any significant change in the management of reclassified fisheries; therefore, this rule is not expected to change the analysis or conclusion of the 2014 EA. If NMFS takes a management action, for example, through the development of a TRP, NMFS would first prepare an environmental document, as required under NEPA, specific to that action.

This rule will not affect species listed as threatened or endangered under the Endangered Species Act (ESA) or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This rule will have no adverse impacts on marine mammals and may have a positive impact on marine mammals by improving knowledge of marine mammals and the fisheries interacting with marine mammals through information collected from observer programs, stranding and sighting data, or take reduction teams.

This rule will not affect the land or water uses or natural resources of the coastal zone, as specified under section 307 of the Coastal Zone Management Act.

References

Allen, B.M. and R.P. Angliss, editors. 2013. Alaska Marine Mammal Stock Assessments, 2013 (Draft). NOAA Tech. Memo. NMFS-AFSC-xxx. 261 p. Available at: http://www.nmfs.noaa.gov/pr/sars/pdf/ak2013_draft.pdf.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2013. U.S. Pacific Marine Mammal Stock Assessments: 2013 (Draft). NOAA Technical Memorandum NOAA-TM-NMFS-SWFSC-xxx. 306 p. Available at: http://www.nmfs.noaa.gov/pr/sars/pdf/po2013_draft.pdf.

Waring, G.T., E. Josephson, K. Maze-Foley, and P.E. Rosel, editors. 2013. Draft U.S. Atlantic and Gulf of Mexico Marine Mammal Stocks Assessments, 2013. NOAA Technical Memorandum NOAA-NE-xxx. 543 p. Available at: http://www.nmfs.noaa.gov/pr/sars/pdf/ao2013_draft.pdf.

NMFS. 2012. NOAA Fisheries Policy Directive 02-038-01 Process for Injury Determinations (01/27/12). Available at: http://www.nmfs.noaa.gov/pr/pdfs/serious_injury_policy.pdf.

Dated: March 6, 2014.
Samuel D. Rauch III,
Deputy Assistant Administrator for Regulatory Programs, National Marine Fisheries Service.

[FR Doc. 2014-05576 Filed 3-13-14; 8:45 am]

BILLING CODE 3510-22-P